NUCLEAR REGULATORY COMMISSION

[Docket No. 40-8006]

Consideration of License Amendment to Kerr-McGee Corporation Technical Center and Opportunity for Hearing

AGENCY: Nuclear Regulatory Commission.

ACTION: Notice of consideration of amendment request and opportunity for a hearing.

SUMMARY: The U.S. Nuclear Regulatory Commission is considering issuance of a license amendment to Material License No. SUB-986, issued to the Kerr-McGee Corporation, to perform remediation in accordance with the submitted decommissioning plan of its Technical Center in Oklahoma City, Oklahoma, and leading to release of the property for unrestricted use and subsequent termination of its license.

FOR FURTHER INFORMATION CONTACT: Blair Spitzberg, Ph.D., Chief, Fuel Cycle and Decommissioning Branch at (817) 860-8191 or Rachel Carr, FCDB at (817) 276-6552.

SUPPLEMENTARY INFORMATION: On April 5, 2001, the licensee submitted a decommissioning plan (DP) to the NRC for review that summarized the decommissioning activities which will be undertaken to remediate the Kerr-McGee Technical Center located in Oklahoma County approximately 15 miles northwest of downtown Oklahoma City, Oklahoma. The Kerr-McGee Technical Center was established in 1963 to provide a research and development facility for conducting chemical and radiological analyses for testing and calibration of instrumentation used for mineral prospecting and small-scale laboratory experiments to develop and prove new or proposed changes to processes for the extraction and purification of uranium and thorium. On April 5, 2001, the licensee submitted a decommissioning plan and license amendment request for unrestricted release of the site and subsequent termination of the license. The NRC will require the licensee to remediate the site to meet NRC's decommissioning criteria and, during decommissioning activities, to maintain doses within NRC requirements and as low as reasonably achievable.

NRC Approval Process

Prior to approving the decommissioning plan, NRC will have made findings required by the Atomic Energy Act of 1954, as amended, and NRC's regulations. The Kerr-McGee Technical Center falls under Type III decommissioning facility requirements as defined in NUREG/BR-0241. In addition, the licensee's activities are covered under the categorical exclusion in 10 CFR 51.22(c)(14)(v), “use of radioactive materials for research and development and for educational purposes.” The final approval of the decommissioning plan will be incorporated into the license as a license amendment. Facilities under Type III decommissioning requirements will receive a confirmatory survey and a closeout inspection by the NRC. If the confirmatory survey results indicate that the licensee's evaluation of the final radiological status of the site is statistically valid and meets NRC's criteria and NRC has determined that the Final Status Survey demonstrates that the site satisfies NRC requirements, the site is suitable for release from regulatory control. At the time of release of the site or termination of the license, a subsequent Federal Register notice will be published to announce the intent of the NRC Staff to release the site for unrestricted use or to terminate the license.

Documents

The Decommissioning Plan submitted by Kerr-McGee Corporation is available for public inspection from the Publicly Available Records (PARS) component of NRC's document system (ADAMS). ADAMS is accessible from the NRC web site at http://www.nrc.gov/NRC/ADAMS/index.html (the Public Electronic Reading Room). Assistance with the Public Electronic Reading Room may be obtained by calling (800) 397-4209.

Notice of Opportunity for Hearing

The NRC hereby provides notice that this is a proceeding on an application for amendment of a license falling within the scope of subpart L, “Informal Hearing Procedures for Adjudications in Materials and Operator Licensing Proceedings,” of NRC's rules and practice for domestic licensing proceedings in 10 CFR part 2. Pursuant to § 2.1205(a), any person whose interest may be affected by the proceeding may file a request for a hearing in accordance with § 2.1205(d). A request for a hearing must be filed within thirty (30) days of the date of publication of this Federal Register notice.

The request for a hearing must be filed with the Office of the Secretary either:

1. By delivery to the Rulemakings and Adjudications Staff of the Office of the Secretary at One White Flint North, 11555 Rockville Pike, Rockville MD 20852-2738; or

2. By mail, telegram or facsimile addressed to the Secretary, U.S. Nuclear Regulatory Commission, Washington, DC 20555-0001. Attention: Rulemakings and Adjudications Staff.

In addition to meeting other applicable requirements of 10 CFR Part 2 of the NRC's regulations, a request for a hearing filed by a person other than an applicant must describe in detail:

1. The interest of the requestor in the proceeding;

2. How that interest may be affected by the results of the proceeding, including the reasons why the requestor should be permitted a hearing, with particular reference to the factors set out in § 2.1205(h);

3. The requestor's areas of concern about the licensing activity that is the subject matter of the proceeding; and

4. The circumstances establishing that the request for a hearing is timely in accordance with § 2.1205(d)—that is, filed within 30 days of the date of this notice.

In accordance with 10 CFR 2.1205(f), each request for a hearing must also be served, by delivering it personally or by mail, to:

1. The applicant, Kerr-McGee Corporation, Kerr-McGee Technical Center, 123 Robert S. Kerr Avenue, Oklahoma City, OK 73125; and

2. The NRC staff, by delivery to the General Counsel, One White Flint North, 11555 Rockville Pike, Rockville, MD 20852, or by mail addressed to the General Counsel, U.S. Nuclear Regulatory Commission, Washington, DC 20555.

Dated at Arlington, Texas, this 3rd day of July, 2001.
For the Nuclear Regulatory Commission.
D. Blair Spitzberg,
Chief, Fuel Cycle and Decommissioning Branch, Division of Nuclear Materials Safety, Region IV.

[FR Doc. 01-17451 Filed 7-11-01; 8:45 am]

BILLING CODE 7590-01-P